FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 27, 2016.

A. Federal Reserve Bank of Chicago (Colette A. Fried, Assistant Vice President) 230 South LaSalle Street, Chicago, Illinois 60690-1414:

1. Ruth A. Kehl S-T Declaration of Trust, Ruth A. Kehl, Trustee, both of Dubuque, Iowa; to join the previously approved Kehl Family Control Group and retain 25 percent or more of the voting shares of Savanna-Thomson Investment, Inc., Savanna, Illinois, and thereby indirectly retain voting shares of Savanna-Thomson State Bank, Thomson, Illinois.

B. Federal Reserve Bank of Atlanta (Chapelle Davis, Assistant Vice President) 1000 Peachtree Street NE., Atlanta, Georgia 30309. Comments can also be sent electronically to Applications.Comments@atl.frb.org:

1. Edgar Ray Smith III, William K. Hood, Savannah K. Conti, William K. Conti, Amite Mini Storage, LLC, Hood Investments, LLC, and WKH Management, Inc., each of Amite, Louisiana; Sophia M. Pray and Hudson M. Pray, both of Hammond, Louisiana; and Big 4 Investments, LLC, Roseland, Louisiana; to acquire 10 percent or more of the shares of First Guaranty Bancshares, Inc., and thereby indirectly acquire voting shares of First Guaranty Bank, both in Hammond, Louisiana.

Board of Governors of the Federal Reserve System, June 7, 2016.
Michele Taylor Fennell,
Assistant Secretary of the Board.

[FR Doc. 2016-13819 Filed 6-10-16; 8:45 am]

BILLING CODE 6210-01-P